FEDERAL COMMUNICATIONS COMMISSION

[GN Docket No. 17-208]

Meeting of the Federal Advisory Committee on Diversity and Digital Empowerment

AGENCY: Federal Communications Commission.

ACTION: Notice.

SUMMARY: In accordance with the Federal Advisory Committee Act, this notice announces, and provides an agenda for, the first meeting of the Federal Communications Commission's (Commission) re-chartered Advisory Committee on Diversity and Digital Empowerment (ACDDE). The charter for the ACDDE has been renewed for a two-year period beginning July 5, 2019.

DATES: Wednesday, October 30, 2019, beginning at 10:00 a.m.

ADDRESSES: Federal Communications Commission, 445 12th Street SW, Room TW-C305, Washington, DC 20554.

FOR FURTHER INFORMATION CONTACT: Jamila Bess Johnson, Designated Federal Officer (DFO) of the ACDDE, (202) 418-2608, Jamila-Bess.Johnson@fcc.gov; Julie Saulnier, Deputy DFO of the ACDDE, (202) 418-1598, Julie.Saulnier@fcc.gov; or Jamile Kadre, Deputy DFO of the ACDDE, (202) 418-2245, Jamile.Kadre@fcc.gov.

SUPPLEMENTARY INFORMATION:

Proposed Agenda: The agenda for the meeting will include introducing members of the ACDDE, including the Committee Chair and Vice Chair, and establishing working groups that will assist the ACDDE in carrying out its work. This agenda may be modified at the discretion of the ACDDE Chair and the DFO. As will be discussed, the Committee's mission is to provide recommendations to the Commission on how to empower disadvantaged communities and accelerate the entry of small businesses, including those owned by women and minorities, into the media, digital news and information, and audio and video programming industries, including as owners, suppliers, and employees.

This meeting is open to members of the public. The Commission will accommodate as many attendees as possible; however, admittance will be limited to seating availability. The Commission will also provide audio and video coverage of the meeting over the internet at www.fcc.gov/live. Oral statements at the meeting by parties or entities not represented on the ACDDE will be permitted to the extent time permits and at the discretion of the ACDDE Chair and the DFO. Members of the public may submit comments to the ACDDE in the Commission's Electronic Comment Filing System ECFS, at www.fcc.gov/ecfs. Comments to the ACDDE should be filed in Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request. Please allow at least five days' notice; last minute requests will be accepted but may not be possible to accommodate.

Federal Communications Commission.
Thomas Horan,
Chief of Staff, Media Bureau.

[FR Doc. 2019-22254 Filed 10-10-19; 8:45 am]

BILLING CODE 6712-01-P